DEPARTMENT OF HEALTH AND HUMAN SERVICES

National Institutes of Health

Extension of Effective Date of NIH Policy on the Use of a Single Institutional Review Board for Multi-Site Research

The National Institutes of Health (NIH) is extending the effective date of the NIH Policy on the Use of a Single Institutional Review Board for Multi-Site Research from May 25, 2017, to September 25, 2017. A copy of the NIH Policy was published in the Federal Register on June 21, 2016 (81 FR 40325). See https://www.gpo.gov/fdsys/pkg/FR-2016-06-21/pdf/2016-14513.pdf. Guidance and Frequently Asked Questions to assist in the implementation of the policy will soon be available at http://osp.od.nih.gov/office-clinical-research-and-bioethics-policy/clinical-research-policy/models-irb-review.

For further information contact the NIH Office of Science Policy, Telephone: 301-496-9838, Email: SingleIRBPolicy@mail.nih.gov.

Dated: December 12, 2016.
Lawrence A. Tabak,
Deputy Director, National Institutes of Health.

[FR Doc. 2016-30398 Filed 12-15-16; 8:45 am]

BILLING CODE 4140-01-P